DEPARTMENT OF COMMERCE

Foreign-Trade Zones Board

[B-59-2022]

Foreign-Trade Zone (FTZ) 41; Authorization of Production Activity; CNH Industrial America LLC; (Tractor Component Parts and Axle Subassemblies); Sturtevant, Wisconsin

On December 7, 2022, CNH Industrial America LLC submitted a notification of proposed production activity to the FTZ Board for its facility within Subzone 41I, in Sturtevant, Wisconsin.

The notification was processed in accordance with the regulations of the FTZ Board (15 CFR part 400), including notice in the Federal Register inviting public comment (87 FR 76458, December 14, 2022). On April 6, 2023, the applicant was notified of the FTZ Board's decision that no further review of the activity is warranted at this time. The production activity described in the notification was authorized, subject to the FTZ Act and the FTZ Board's regulations, including section 400.14.

Dated: April 6, 2023.
Elizabeth Whiteman,
Acting Executive Secretary.

[FR Doc. 2023-07621 Filed 4-11-23; 8:45 am]

BILLING CODE 3510-DS-P